DEPARTMENT OF ENERGY

Federal Energy Regulatory Commission

[Docket No. IC03-121-000, FERC Form 121]

Commission Information Collection Activities, Proposed Collection; Comment Request; Extension

September 29, 2003.

AGENCY: Federal Energy Regulatory Commission, DOE.

ACTION: Notice.

SUMMARY: In compliance with the requirements of section 3506(c)(2)(a) of the Paperwork Reduction Act of 1995, 44 U.S.C. 3506(c)(2)(A), the Federal Energy Regulatory Commission (Commission) is soliciting public comment on the specifics of the information collection described below.

DATES: Comments on the collection of information are due by December 1, 2003.

ADDRESSES: Copies of the proposed collection of information can be obtained from Michael Miller, Office of the Executive Director, ED-30, 888 First Street NE., Washington, DC 20426. Comments may be filed either in paper format or electronically. Those parties filing electronically do not need to make a paper filing.

For paper filings, the original and 14 copies of such comments should be submitted to the Office of the Secretary, Federal Energy Regulatory Commission, 888 First Street, NE., Washington, DC 20426 and refer to Docket No. IC03-121-000.

Documents filed electronically via the Internet must be prepared in WordPerfect, MS Word, Portable Document Format, or ASCII format. To file the document, access the Commission's Web site at http://www.ferc.gov and click on “Make an E-filing,” and then follow the instructions for each screen. First time users will have to establish a user name and password. The Commission will send an automatic acknowledgment to the sender's E-mail address upon receipt of comments.

All comments may be viewed, printed or downloaded remotely via the Internet through FERC's homepage using the eLibrary link. For user assistance, contact FERCOnlineSupport@ferc.gov or toll-free at (866) 208-3676 or for TTY, contact (202) 502-8659.

FOR FURTHER INFORMATION CONTACT: Michael Miller may be reached by telephone at (202)502-8415, by fax at (202)273-0873, and by e-mail at michael.miller@ferc.gov. Copies of FERC Form 121 are available from Mr. Miller.

SUPPLEMENTARY INFORMATION: The information collected under the requirements of FERC Form 121 “Application for Determination of the Maximum Lawful Price Under the Natural Gas Policy Act” (OMB Control No. 1902-0038) is used by the Commission to implement the statutory provisions of Section 503 of the Natural Gas Policy Act of 1978 (NGPA), 15 U.S.C. 3413. In Order No. 616, (July 14, 2000) the Commission reinstated provisions for making well category determinations under Section 503 of the Natural Gas Policy Act for certain categories of high cost gas.

When the determinations are made, natural gas producers can claim tax credits as provided for under section 29 of the Internal Revenue Code (Section 29 tax credit). Section 29 as amended by the Revenue Reconciliation Act of 1990, allows taxpayers to claim a tax credit for certain qualified fuels which (1) are produced from wells drilled after December 31, 1979, and before January 1, 1993, and (2) sold before January 1, 2003. The qualified fuels include high cost gas as defined in NGPA section 107(c)(2)-(4) (gas produced from geopressured brine, coals seams and Devonian shale), as well as some gas the Commission defined as tight formation gas pursuant to NGPA section 107(c)(5). In 1999, the United States Court of Appeals for the Tenth Circuit in True Oil Co. v. Commissioner of Internal Revenue (True Oil) (170 F.3d 1294) (10th Cir. 1999), held that, in order to obtain the tax credit, there must be a formal determination under the procedures provided for by section 503 of the Natural Gas Policy Act. Section 503 of the NGPA, set forth procedures used for determining whether gas qualified as section 107(c) “high-cost natural gas.” Under that section the agency having regulatory jurisdiction with respect to the production of natural gas in question (a jurisdictional agency) makes the initial determination, and submits it to the Commission. The Commission can affirm, reverse, remand, make a preliminary finding either on, or simply takes no action regarding the agency's determination. If the Commission takes no action within 45 days after receipt of the agency's determination, the determination is final. Judicial review is available under Section 503 only if the Commission remands or reverses the determination. In Order No. 616, the Commission limited its actions to reviewing determinations by jurisdictional agencies for qualifying recompletions in already designated tight formations. Well determinations for recompletions in coal seams and Devonian shale are also accepted. The Commission estimated that there are probably at least 4,131 recompletions that were performed during the years 2000-2003 for which a determination may be sought under the Commission's regulations. FERC Form 121 (Form) is used by a natural gas producer as an application for a determination. Form 121 identifies the producer filing the application, the type of determination the producer is seeking (determination is for occluded natural gas produced from coal seams, Devonian shale or tight formation gas) and information identifying the well and the completion location of the well. An application is initially submitted to the jurisdictional agency and then sent forward to the Commission for review. The Commission implements these filing requirements in the Code of Federal Regulations (CFR) under 18 CFR part 270.

ACTION: The Commission is requesting a three-year extension of the current expiration date, with no changes to the existing collection of data.

Burden Statement: Public reporting burden for this collection is estimated as:

Number of respondents annually | Number of responses per respondent | Average burden hours per response | Total Annual burden hours
(1) | (2) | (3) | (1)×(2)×(3)
4,131 | 1 | .25 | * 1,033
* Rounded off

Estimated cost burden to respondents: 1,033 hours/2,080 hours per year × $117,041 per year = $58,127. The cost per respondent is equal to $14.

The reporting burden includes the total time, effort, or financial resources expended to generate, maintain, retain, disclose, or provide the information including:

(1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology e.g., permitting electronic submission of responses.

Magalie R. Salas,
Secretary.

[FR Doc. 03-25223 Filed 10-3-03; 8:45 am]

BILLING CODE 6717-01-P